DEPARTMENT OF EDUCATION

34 CFR Chapter II

[Docket ID ED-2021-OESE-0152]

Proposed Priorities, Requirement, Definitions, and Selection Criteria—Full-Service Community Schools Program

AGENCY: Office of Elementary and Secondary Education, Department of Education.

ACTION: Proposed priorities, requirement, definitions, and selection criteria.

SUMMARY: The Department of Education (Department) proposes priorities, requirement, definitions, and selection criteria under the Full-Service Community Schools (FSCS) program, Assistance Listing Number 84.215J. The Department is taking this action to support the successful implementation of this critical program and build additional evidence to share with the field. The Department may use these priorities, requirement, definitions, and selection criteria for competitions in FY 2022 and later years.

DATES: We must receive your comments on or before February 11, 2022.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQ.”

• Postal Mail, Commercial Delivery, or Hand Delivery: If you mail or deliver your comments about the proposed priorities, requirement, selection criteria, and definitions, address them to Elson Nash, U.S. Department of Education, 400 Maryland Avenue SW, Room 3E246, Washington, DC 20202.

Privacy Note: The Department's policy is to make all comments received from members of the public available for public viewing in their entirety on the Federal eRulemaking Portal at www.regulations.gov. Therefore, commenters should be careful to include in their comments only information that they wish to make publicly available.

FOR FURTHER INFORMATION CONTACT: Elson Nash, U.S. Department of Education, 400 Maryland Avenue SW, Room 3E246, Washington, DC 20202. Telephone: (202) 260-2655. Email: FSCS@ed.gov.

If you use a telecommunications device for the deaf (TDD) or a text telephone (TTY), call the Federal Relay Service (FRS), toll free, at 1-800-877-8339.

SUPPLEMENTARY INFORMATION:

Invitation to Comment: Community schools serve as centers of the community, connecting students and families to vital resources that can help them thrive. Importantly, community schools expand learning and enrichment opportunities for both students and parents alike, and promote family and community engagement in education, which ultimately can bolster students' success.

This document reflects full-service community schools program improvements based on lessons learned over the last decade, including addressing the increased mental and behavioral health needs among school community members, to improve program implementation and evaluation.

The community schools field has been successful over the years expanding community schools.¹ Practitioners and policy makers at the local, state, and national levels have embraced the community schools approach to address critical needs of children, recognizing that academic opportunities and success can be impacted by factors such as neighborhood poverty, access to health and social services, including mental and behavioral health services and supports, and family stressors. Evidence-based community school approaches can help mitigate the impact of these factors in ways that support student success.²

¹ Harkavy, I. (2017). John Dewey and the Community School Idea. In L. Benson. Knowledge for Social Change: Bacon, Dewey and the Revolutionary Transformation of Research Universities in the Twenty-First Century (pp.42-67), Philadelphia, Temple University Press.

² Brookings Institution's Task Force for the Next Generation Community Schools (2021). Addressing inequality in education with a next generation of community schools: A blueprint for mayors, states, and the federal government.

Through proposed priorities and an enhanced application requirement, the Department hopes to encourage applications to include a plan to successfully implement the “pillars of a full-service community school” (as defined in this document). In addition, the Department seeks to continuously improve program implementation quality at the site level. The Department also seeks to codify and enhance the definitions, and selection criteria to coincide with improvements to the overall purpose and structure of the FSCS program. Lastly, to continue to build the evidence to support program quality and improvement, we propose to include a priority that allows for a national evaluation of the program.

We invite you to submit comments regarding the proposed priorities, requirement, definitions, and selection criteria. To ensure that your comments have maximum effect in developing the notice of final priorities, requirement, definitions, and selection criteria, we urge you to identify clearly the specific proposed priority, requirement, definition, or selection criterion that each comment addresses.

We invite you to assist us in complying with the specific requirements of Executive Order 12866 and its overall requirement of reducing regulatory burden that might result from these proposed priorities, requirement, definitions, and selection criteria. Please let us know of any further ways we could reduce potential costs or increase potential benefits while preserving the effective and efficient administration of the program.

During and after the comment period, you may inspect all public comments about this notice by accessing Regulations.gov. Due to the COVID-19 pandemic, the Department buildings are currently not open to the public. However, upon reopening, you may also inspect the comments in person at 400 Maryland Avenue SW, Room 3E246, Washington, DC, between the hours of 8:30 a.m. and 4:00 p.m., Eastern Time, Monday through Friday of each week except Federal holidays. Please contact the person listed under FOR FURTHER INFORMATION CONTACT.

Assistance to Individuals With Disabilities in Reviewing the Rulemaking Record: On request we will provide an appropriate accommodation or auxiliary aid to an individual with a disability who needs assistance to review the comments or other documents in the public rulemaking record for the proposed priorities, requirement, definitions, and selection criteria. If you want to schedule an appointment for this type of accommodation or auxiliary aid, please contact the person listed under FOR FURTHER INFORMATION CONTACT.

Purpose of Program: The FSCS program provides support for the planning, implementation, and operation of full-service community schools that improve the coordination, integration, accessibility, and effectiveness of services for children and families, particularly for children attending schools with concentrated poverty, including rural schools. The FSCS program is authorized under Title IV through Community Support for School Success, sections 4621-4623 and 4625(a) of the Elementary and Secondary Education Act, as amended (ESEA).

Program Authority: 20 U.S.C. 7271-7273, 7275.

Proposed Priorities

This document contains the following five proposed priorities:

Proposed Priority 1—Capacity Building and Development Grants;

Proposed Priority 2—Multi-Local Educational Agency Grants;

Proposed Priority 3—State Scaling Grants;

Proposed Priority 4—Participation in the National Evaluation; and

Proposed Priority 5—Evidence-Based Integrated Student Supports.

Background: Over the last five years, the FSCS program experienced rapid growth as grantees expanded program implementation to multiple schools and districts. Grantees adopted varied approaches to size and scope, with a range of experiences and outcomes. Those grantees with the most success provided clear guidance to the schools and partners on program implementation, staff training, support for teachers, and continuous improvement. This was particularly true with the 2016 study by the Gardner Center ³ on the implementation of the community school approach by the 2014 FSCS grantee Oakland Unified School District. In Oakland, across 33 schools, school staff, school leadership, and community partners focused on four competencies when addressing the needs of students: Comprehensiveness, collaboration, coherence, and commitment. The results included reductions in suspensions and chronic absenteeism and improved academic engagement.

³ Fehrer, K., & Leos-Urbel, J. (2016). “We're One Team”: Examining Community School Implementation Strategies in Oakland. Education Sciences, 6(4), 26. MDPI AG. Retrieved from https://dx.doi.org/10.3390/educsci6030026.

Proposed priorities 1 through 3 would allow the Department to award grants to projects at different stages of development, from capacity-building to scaling full- service community schools approaches where the community and education leadership are ready to scale. These stages represent points of entry at the local, district, region, and state level to strategically scale the community school approach based on the readiness of the consortium applying for the grant.

Although scaling the approach is important, equally important is retaining high quality implementation and fidelity to the approach which includes the pillars of full-service community schools. The four pillars of full- service community schools (as defined in this notice) are integrated student supports, expanded learning opportunities, active family and community engagements, and collaborative leadership and practices.

There is some evidence that implementing all pillars of full-service community schools is associated with a range of positive outcomes for students and families.⁴ As the field continues to evolve, it is important to expand this body of evidence with additional, rigorously designed evaluations. Of the studies that assess the effects of community schools using a randomized controlled trial or quasi-experimental design, all examined the effects of a single community school, the effects of multiple community schools within a single city/metropolitan area, or the effects within 1-2 states.⁵

⁴ Maier, A., J. Daniel, J. Oakes, and L. Lam. “Community Schools as an Effective School Improvement Strategy: A Review of the Evidence.” Palo Alto, CA: Learning Policy Institute, 2017.

⁵ For example, see:

Adams, C. (2010). “Improving Conditions for Learning in High Poverty Elementary Schools: Evidence from the Tulsa Area Community Schools Initiative (TACSI).” Norman, OK: University of Oklahoma.

Durham, R.E., and Connoly, F.(2016). “Baltimore Community Schools: Promise & Progress.” Baltimore, MD: Baltimore Education Research Consortium, 2016.

Somers, M., and Haider, Z. (2017). “Using Integrated Student Support to Keep Kids in School. A Quasi-Experimental Evaluation of Communities In Schools, New York, NY: MDRC.

Johnston, W., Engberg, J., Opper, I., Sontag-Padilla, L. and Xenakis, L. (2020). “Illustrating the Promise of Community Schools: An Assessment of the Impact of the New York City Community Schools Initiative.” Sponsored by the New York Mayor's Office of Economic Opportunity. Santa Monica, CA: RAND Corporation.

Olson, L.S.(2014). “A First Look at Community Schools in Baltimore.” Baltimore, MD: Baltimore Education Research Consortium.

Somers, M.A, and Haider, Z.(2017). “Using Integrated Student Supports to Keep Kids in School: A Quasi-Experimental Evaluation of Communities in Schools.” New York: MDRC.

Key opportunities for next steps include rigorous evaluation of community schools across a wide range of cities and states. The Department proposes Priority 4 to provide the option to institute the first ever national evaluation of the FSCS program.

The Department proposes Priority 5 to support high quality initiative design and implementation. A body of research demonstrates that evidence-based integrated student support models positively impact students' school progress, attendance, and mathematics achievement.⁶ These models offer a process for connecting students to personalized, comprehensive services in a systematic manner. Incorporation of a proven integrated student support model would enhance the impact of the FSCS program on students. Under this proposed priority, we include the four tiers of evidence outlined in ESEA, and the Department may choose which tier or tiers to use in a notice inviting applications for FSCS grants.

⁶ Moore, K.A., Lantos, H., Jones, R., Schindler, A., Belford, J., & Sacks, V. (2017). Making the Grade: A Progress Report and Next Steps for Integrated Student Supports. Child Trends. (childtrends.org). Maier, A., Daniel, J., Oakes, J., and Lam, L. (2017). Community Schools as an Effective School Improvement Strategy: A Review of the Evidence. (learningpolicyinstitute.org).

Proposed Priority 1—Capacity Building and Development Grants. Projects that propose to conduct initial development and coordination activities that leverage the findings of their needs assessment to develop the infrastructure, activities, and partnerships to implement and sustain full- service community schools in two or more schools through extensive community engagement and gathering data on initial outcomes.

Proposed Priority 2—Multi-Local Educational Agency (LEA) Grants. Projects that propose to implement full-service community schools in two or more LEAs within the same state.

Proposed Priority 3—FSCS State Scaling Grants.⁷

⁷ DC, HI, and PR may apply for Statewide grants.

Projects in partnership with an SEA that propose to initiate, support, and expand full-service community schools in six or more LEAs across the state where there is a commitment to sustain the program beyond two years after the term of the grant.

Proposed Priority 4—Participation in the National Evaluation.

Projects in which the applicant agrees to:

(1) Carry out the FSCS grant in a manner consistent with a randomized controlled trial evaluation design developed by the Department and its national evaluator;

(2) Propose at least four schools to potentially receive grant funding in the national evaluation. The proposed schools can be elementary, middle, and/or high schools.

Note: From among the proposed schools, applicants may designate one group of two or more schools that serve the same grade levels as “highest need,” and if the applicant receives a grant, the national evaluation will ensure that at least one of the schools in the group receives FSCS funding.

(3) Not currently be fully implementing all four pillars of full-service community schools (as defined in this notice) in any of the schools proposed for the grant;

(4) Consent to the evaluator's random assignment of approximately one-half of the schools proposed by the applicant to receive funding and begin implementing the FSCS approach; and the other half of schools to not receive funding from any FSCS grant for three years following random assignment;

(5) Not promote or begin using grant funds for the implementation of the FSCS approach in any proposed schools until the grantee receives notification from the national evaluator about the random assignment of its schools to receive FSCS grant funding or not; and

(6) Cooperate, consistent with applicable privacy requirements, with evaluation data collection activities, including: Surveys of grantee directors, principals of both groups of proposed schools (those randomly assigned to receive grant funding and schools assigned to not receive grant funding), and a representative sample of parents/guardians of students attending the two groups of grantee schools; and provision of district administrative records on educators (e.g., credentials, experience) and students (e.g., academic assessment scores, course taking and credit accumulation, attendance) in the two groups of grantee schools. These data collections will be carried out at multiple points over the grant period.

Proposed Priority 5—Evidence-Based Integrated Student Supports.

Projects that propose adoption of an evidence-based model to provide integrated student supports in their implementation at one or more of the following tiers:

(a) Demonstrates a rationale;

(b) Promising evidence;

(c) Moderate evidence; or

(d) Strong evidence.

Types of Priorities: When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority we are particularly interested in applications that meet the priority. However, we do not give an application that meets the priority a preference over other applications (34 CFR 75.105(c)(1)).

Proposed Requirement

Background: To enhance the quality of implementation of full-service community schools the Department proposes that each application address the four pillars of full-service community schools. The four pillars are: (1) Integrated student supports that address out-of-school barriers to learning through partnerships with social and health service agencies and providers; (2) expanded and enriched learning time and opportunities; (3) active family and community engagement; and (4) collaborative leadership and practices that build a culture of professional learning, collective trust, and shared responsibility.

The Department proposes this application requirement to be used in conjunction with those set out in Section 4625(a) of the ESEA. The proposed application requirement is intended to: (1) Assist applicants with creating and clearly presenting elements of high-quality full-service community schools; (2) emphasize the critical role and direct involvement of school partners, including community based organizations, families, educators, and staff, in identifying and implementing solutions needed to improve educational opportunities and academic outcomes; (3) ensure that applicants have a clear knowledge of the assets and needs in the schools and communities to be served as demonstrated by the applicant's initial needs assessment and plan; and (4) communicate to families that the combination of supports, rich learning environment and collaboration with school leadership will create the best conditions to meet the needs of their child. The Department expects that the proposed requirement will not only improve the application and review process but also improve program outcomes.

Through each of the FSCS competitions over the last ten years, the program recognized the need for applications to more clearly represent information such as presentation of services, demonstration of needs, and connection to the classroom. These improvements will help increase the likelihood that the proposed project addresses all identified needs and connects the services and community assets to the schools. It will also help peer reviewers' evaluation of services, partners, and collaborations with school leadership.

Proposed Application Requirement

The Department proposes the following application requirement for this program. We may apply this requirement in any year in which this program is in effect.

Proposed Application Requirement: An applicant must, in addition to providing the information and assurances required by Section 4625(a) of the ESEA, provide the following:

In addressing the application requirements set out in Section 4625(a) of the ESEA, applicants must address the essential pillars of full-service community schools (as defined in this notice).

Projects must describe the pillars of full-service community schools that they have in place or how they will establish these pillars, or how they will implement these supports with partners, including community-based organization, and collaborating with school leadership and staff.

Proposed Definitions

Background: To ensure a common understanding of the proposed priorities, requirement, and selection criteria, we propose the following definitions that are critical to the policy and statutory purposes of the FSCS program. We propose these definitions to clarify expectations for eligible entities applying for FSCS program grants and to ensure that the review process for applications for FSCS grants remains as transparent as possible.

Proposed Definitions: The Department proposes the following definitions for this program. We may apply one or more of these definitions in any year in which this program is in effect.

Pillars of Full-Service Community Schools means all of the following:

(A) Integrated student supports at a community school that provide in- and out-of-school support for students, address well-being, and address out-of-school barriers to learning through partnerships with social and health service agencies, including mental and behavioral health agencies and providers, and coordinated by a community school coordinator, which may include—

(i) Medical, dental, vision care, and mental and behavioral health services, including mental health literacy for students and staff; and

(ii) Individuals to assist with housing, transportation, nutrition, citizenship preparation, or criminal justice issues and other services.

(B) Expanded and enriched learning time and opportunities, through evidence-based strategies, including before-school, after-school, during-school, weekend, and summer programs that provide additional academic instruction, individualized academic support, enrichment activities, or learning opportunities, for students at a community school that—

(i) May emphasize real-world project based learning in which students can apply their learning to contexts that are relevant and engaging; and

(ii) May include art, music, drama, creative writing, hands-on experience with engineering or science (including computer science), career and technical education, tutoring that is aligned with classroom success and homework help, and recreational programs that enhance and are consistent with the school's curriculum.

(C) Active family and community engagement that—

(i) Brings parents and families of students at the community school and in the community into the school as partners in students' education, including meaningfully involving parents and families in the community school's decision-making processes;

(ii) Makes the community school a hub for services, activities, and programs, for students, families, and members of the neighborhood that the community school serves;

(iii) Provides adults with desired educational opportunities; and

(iv) Provides centralized supports for families and communities in community schools, which may include English as a second language classes, citizenship preparation, computer skills, art, housing assistance, child abuse and neglect prevention supports, health and mental health literacy programs, digital literacy training, or other programs that bring community members into a school building for meetings, events, or programming.

(D) Collaborative leadership and practices that build a culture of professional learning, collective trust, and shared responsibility for each community school using strategies that—

(i) Shall, at a minimum, include a school-based leadership team, a community school coordinator, and a community-wide leadership team; and

(ii) May include other leadership or governance teams, community school steering committees, or other community coalitions, educator learning communities, and other staff to manage the multiple, complex joint work of school and community organizations.

Broadly representative consortium means stakeholders representing broad groups of people working together for the best interest of children; such stakeholders may include, but are not limited to schools, nonprofits, government, philanthropy, and the business community.

History of effectiveness means an eligible entity demonstrating the ability to successfully implement programs and policies. Such programs and policies must include but shall not be limited to successfully implementing with other organizations grants, policies, and programs for students from high need schools (as defined in ESEA section 2221).

Proposed Selection Criteria

Background: Since the original FSCS grant competition in FY 2008, the Department has held four additional competitions (FY 2010, 2014, 2018, and 2019). Our experience with administering these competitions, including feedback from peer reviewers, applicants, funded grantees, and experts, demonstrates the need to use program-specific selection criteria to evaluate specific program elements.

Proposed Selection Criteria: The Department proposes the following selection criteria for evaluating an application under this program. We may apply one or more of these criteria in any year in which this program is in effect. In the notice inviting applications or the application package or both we will announce the maximum possible points assigned to each criterion.

(a) The extent to which the design of the proposed project reflects relevant and evidence-based findings from existing literature, and includes a high-quality plan for project implementation integrating the four pillars of full-service community schools and the use of appropriate evaluation methods to ensure successful achievement of project objectives.

(b) The extent to which the applicant will ensure that a diversity of perspectives is brought to bear in the design and operation of the proposed project, including those of families, educators and staff, beneficiaries of services, school leadership, and community leadership.

(c) The extent to which the grantee has plans for a full-time coordinator at each school, includes a plan to sustain the position beyond the grant period, and a description of how this position will serve to integrate, coordinate, and deliver pipeline services at each school.

(d) The extent to which the grantee has a consortium broadly representative of community stakeholders and needs.

(e) The extent to which the applicant demonstrates a history of effectiveness.

Final Priority, Requirement, Definitions and Selection Criteria: We will announce the final priorities, requirement, definitions, and selection criteria in a notice in the Federal Register. We will determine the final priorities, requirement, definitions, and selection criteria after considering responses to this document and other information available to the Department. This document does not preclude us from proposing additional priorities, requirements, definitions, and selection criteria, subject to meeting applicable rulemaking requirements.

Note: This document does not solicit applications. In any year in which we choose to use these priorities, requirement, definitions, and selection criteria, we invite applications through a notice in the Federal Register.

Executive Orders 12866 and 13563

Regulatory Impact Analysis

Under Executive Order 12866, the Secretary must determine whether this regulatory action is “significant” and, therefore, subject to the requirements of the Executive order and subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule).

(2) Create serious inconsistency or otherwise interfere with an action taken or planned by another agency.

(3) Materially alter the budgetary impacts of entitlement grants, user fees, or loan programs or the rights and obligations of recipients thereof; or

(4) Raise novel legal or policy issues arising out of legal mandates, the President's priorities, or the principles stated in the Executive order.

This proposed regulatory action is not significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify).

(2) Tailor its regulations to impose the least burden on society, consistent with obtaining regulatory objectives and taking into account—among other things and to the extent practicable—the costs of cumulative regulations.

(3) In choosing among alternative regulatory approaches, select those approaches that maximize net benefits (including potential economic, environmental, public health and safety, and other advantages; distributive impacts; and equity).

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing the proposed priorities, requirement, definitions, and selection criteria only on a reasoned determination that their benefits justify their costs. In choosing among alternative regulatory approaches, we selected those approaches that would maximize net benefits. Based on the analysis that follows, the Department believes that this regulatory action is consistent with the principles in Executive Order 13563.

We also have determined that this regulatory action would not unduly interfere with State, local, and Tribal governments in the exercise of their governmental functions.

In accordance with both Executive orders, the Department has assessed the potential costs and benefits, both quantitative and qualitative, of this regulatory action. The potential costs are those resulting from statutory requirements and those we have determined as necessary for administering the Department's programs and activities.

Paperwork Reduction Act

The proposed priorities, requirement, definitions, and selection criteria contain information collection requirements that are approved by OMB under OMB control number 1894-0006; the proposed priorities, requirement, definitions, and selection criteria do not affect the currently approved data collection.

Regulatory Flexibility Act Certification

The Secretary certifies that this proposed regulatory action would not have a significant economic impact on a substantial number of small entities. The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

The small entities that this proposed regulatory action would affect are LEAs, including charter schools that operate as LEAs under State law; institutions of higher education; public or private nonprofit organizations; and Indian Tribes or Tribal organizations. We believe that the costs imposed on an applicant by the proposed priorities, requirement, definitions, and selection criteria would be limited to paperwork burden related to preparing an application and that the benefits of these proposed priorities, requirement, definitions, and selection criteria would outweigh any costs incurred by the applicant.

Participation in the FSCS program is voluntary. For this reason, the proposed priorities, requirement, definitions, and selection criteria would impose no burden on small entities unless they applied for funding under the program. We expect that in determining whether to apply for FSCS program funds, an eligible entity would evaluate the requirements of preparing an application and any associated costs and weigh them against the benefits likely to be achieved by receiving an FSCS program grant. An eligible entity will probably apply only if it determines that the likely benefits exceed the costs of preparing an application.

We believe that the proposed priorities, requirements, definitions, and selection criteria would not impose any additional burden on a small entity applying for a grant than the entity would face in the absence of the proposed action. That is, the length of the applications those entities would submit in the absence of the proposed regulatory action and the time needed to prepare an application would likely be the same.

This proposed regulatory action would not have a significant economic impact on a small entity once it receives a grant because it would be able to meet the costs of compliance using the funds provided under this program. We invite comments from small eligible entities as to whether they believe this proposed regulatory action would have a significant economic impact on them and, if so, request evidence to support that belief.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or another accessible format.

Electronic Access to This Document: The official version of this document is the document published in the Federal Register. You may access the official edition of the Federal Register and the Code of Federal Regulations is available via the Federal Digital System at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ian Rosenblum,
Deputy Assistant Secretary for Policy and Programs, delegated the authority to perform the functions and duties of the Assistant Secretary for Elementary and Secondary Education.

[FR Doc. 2022-00453 Filed 1-11-22; 8:45 am]

BILLING CODE 4000-01-P